NUCLEAR REGULATORY COMMISSION

[Docket No. 70-3098-MLA]

In the Matter of Shaw Areva Mox Services, LLC (Mixed Oxide Fuel Fabrication Facility); Notice of Appointment of Adjudicatory Employees

Pursuant to 10 CFR 2.4, notice is hereby given that Larry Harris, Senior Materials Program Manager, Office of Nuclear Security and Incident Response, and John Rycyna, Senior Security Specialist, Office of Nuclear Security and Incident Response, have been appointed as Commission adjudicatory employees to advise the Commission regarding issues relating to review of the Licensing Board's Initial Decision, LBP-14-1. Mr. Harris and Mr. Rycyna have not previously performed any investigative or litigating function in connection with this proceeding.

Until such time as a final decision is issued in this matter, interested persons outside the agency and agency employees performing investigative or litigating functions in this proceeding are required to observe the restrictions of 10 CFR 2.347 and 2.348 in their communications with Mr. Harris and Mr. Rycyna.

It is so ordered.

For the Commission.
Dated at Rockville, Maryland, this 1st day of July, 2014.
Annette L. Vietti-Cook,
Secretary of the Commission.

[FR Doc. 2014-15942 Filed 7-7-14; 8:45 am]

BILLING CODE 7590-01-P